FEDERAL FINANCIAL INSTITUTIONS EXAMINATION COUNCIL

[Docket No. AS20-02]

Appraisal Subcommittee Notice of Meeting

AGENCY: Appraisal Subcommittee of the Federal Financial Institutions Examination Council.

ACTION: Notice of Meeting.

Description: In accordance with Section 1104 (b) of Title XI of the Financial Institutions Reform, Recovery, and Enforcement Act of 1989, as amended, notice is hereby given that the Appraisal Subcommittee (ASC) will meet in open session for its regular meeting:

Location: Partnership for Public Service, 1100 New York Avenue NW, Suite 200 East, Washington, DC 20005.

Date: February 12, 2020.

Time: 10:45 a.m.

Status: Open.

Reports

Chairman

Executive Director

Delegated State Compliance Reviews

Grants Director

Financial Manager

Notation Vote

Action and Discussion Items

November 13, 2019 Open Session Minutes

December 12, 2019 Special Meeting Minutes

Illinois Appraiser Program Compliance Review

Reprogramming Request for FY19 ASC Grants

How To Attend and Observe an ASC Meeting

If you plan to attend the ASC Meeting in person, we ask that you send an email to meetings@asc.gov. You may register until close of business February 7, 2020. The meeting space is intended to accommodate public attendees. However, if the space will not accommodate all requests, the ASC may refuse attendance on that reasonable basis. The use of any video or audio tape recording device, photographing device, or any other electronic or mechanical device designed for similar purposes is prohibited at ASC Meetings.

Dated: January 29, 2020.
James R. Park,
Executive Director.

[FR Doc. 2020-01986 Filed 1-31-20; 8:45 am]

BILLING CODE 6700-01-P